DEPARTMENT OF THE TREASURY

Internal Revenue Service

Advisory Group to the Commissioner of Internal Revenue; Meeting

AGENCY: Internal Revenue Service (IRS), Treasury.

ACTION: Notice.

SUMMARY: The IRS Advisory Council (IRSAC) will hold a public meeting to present recommendations to the Commissioner of Internal Revenue regarding IRS modernization and redesign issues surrounding the Wage & Investment, Large and Midsize Business, and Small Business/Self-employed operating divisions. Other topics to be discussed include an update on the overall IRS modernization, an overview of the 2000 filing season, third party authorization, update about customer service programs, and an overview of the transition process.

DATES: The meeting will be held on Wednesday, June 21, 2000, starting at 9:30 a.m.

ADDRESSES: Internal Revenue Service Main Building, 1111 Constitution Avenue, NW., Washington, DC.

FOR FURTHER INFORMATION CONTACT: Lorenza Wilds; Office of Public Liaison and Small Business Affairs, CL:PL, room 7559 IR, 1111 Constitution Avenue, N.W., Washington, D.C. 20224, telephone 202-622-5188, not a toll-free number. E-mail address: *public_liaison@.irs.gov.

SUPPLEMENTARY INFORMATION: Notice is hereby given pursuant to Section 10(a)(2) of the Federal Advisory Committee Act, 5 U.S.C. App. (1988), that a public meeting of the IRSAC will be held on Wednesday, June 21, 2000, beginning at 9:30 a.m. in Room 3313, main building, 1111 Constitution Avenue, N.W., Washington, D.C. 20224. Last minute changes to the agenda are possible and could prevent effective advance notice. The meeting will be in a room that accommodates approximately 50 people, including IRSAC members and IRS officials. Due to the limited space and security specifications, please call Lorenza Wilds to confirm your attendance. Ms. Wilds can be reached at (202) 622-5188 (not toll-free). Attendees are encouraged to arrive at least 30 minutes prior to the starting time of the meeting, to allow enough time to clear security at the 1111 Constitution Avenue, N.W., entrance.

If you would like for the IRSAC to consider a written statement, please call (202) 622-5081 or write to Merci del Toro, Office of Public Liaison, CL:PL, Internal Revenue Service, 1111 Constitution Avenue, N.W., Room 7559 IR, Washington, D.C. 20224, or E-mail at *public_liaison@irs.gov.

Dated: May 26, 2000.
Susanne M. Sottile,
Designated Federal Official, National Director, Office of Public Liaison and Small Business Affairs.

[FR Doc. 00-14014 Filed 6-2-00; 8:45 am]

BILLING CODE 4830-01-U